DEPARTMENT OF COMMERCE

International Trade Administration

Lawrence Berkeley National Laboratory, et al.; Notice of Consolidated Decision on Applications for Duty-Free Entry of Electron Microscopes

This is a decision consolidated pursuant to section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW, Washington, DC.

Docket Number: 02-025. Applicant: Lawrence Berkeley National Laboratory, Berkeley, CA 94720. Instrument: Electron Microscope, Model Tecnai G² F20 U-TWIN STEM. Manufacturer: FEI Company, The Netherlands. Intended Use: See notice at 67 FR 47524, July 19, 2002. Order Date: September 7, 2001.

Docket Number: 02-026. Applicant: University of North Carolina, Chapel Hill, NC 27599-3255. Instrument: Electron Microscope, Model JEM-2010F FasTEM. Manufacturer: JEOL Ltd., Japan. Intended Use: See notice at 67 FR 47524, July 19, 2002. Order Date: March 25, 2002.

Docket Number: 02-029. Applicant: University of Delaware, Newark, DE 19716. Instrument: Electron Microscope, Model JEM-3010. Manufacturer: JEOL Ltd., Japan. Intended Use: See notice at 67 FR 47524, July 19, 2002. Order Date: October 24, 2001.

Comments: None received. Decision: Approved. No instrument of equivalent scientific value to the foreign instrument, for such purposes as these instruments are intended to be used, was being manufactured in the United States at the time the instruments were ordered. Reasons: Each foreign instrument is a conventional transmission electron microscope (CTEM) and is intended for research or scientific educational uses requiring a CTEM. We know of no CTEM, or any other instrument suited to these purposes, which was being manufactured in the United States at the time of order of each instrument.

Gerald A. Zerdy,
Program Manager, Statutory Import Programs Staff.

[FR Doc. 02-23495 Filed 9-13-02; 8:45 am]

BILLING CODE 3510-DS-P